DEPARTMENT OF HOMELAND SECURITY

Federal Emergency Management Agency

[Docket ID: FEMA-2010-0041]

Agency Information Collection Activities: Submission for OMB Review; Comment Request, OMB No. 1660-0036; Federal Emergency Management Agency Individual Assistance Customer Satisfaction Surveys

AGENCY: Federal Emergency Management Agency, DHS.

ACTION: Notice; 30-day notice and request for comments; revision of a currently approved information collection; OMB No. 1660-0036; Caller Services Registration Intake Survey, FEMA Form 007-0-3 (currently 90-147); Caller Services Helpline Survey, FEMA Form 007-0-5 (currently 90-148); Program Effectiveness & Recovery Survey, FEMA Form 070-0-20 (currently 90-149); Internet On-Line Registration Survey, FEMA Form 070-0-2 (currently 90-150); Internet Applicant Inquiry/Update Phone Survey, FEMA Form 070-0-19 (currently 90-151); Casework Representative Survey, FEMA Form 007-0-6; Direct Housing Operations Survey, FEMA Form 007-0-4; Disability Access and Functional Needs Representative Survey, FEMA Form 007-0-8 (This form was named `Special Needs Representative Survey' in the 60-day Federal Register Notice at 75 FR 40847, July 14, 2010.); Disaster Recovery Center Survey, FEMA Form 007-0-7; Communication and Process Survey, FEMA Form 007-0-9; Contact Survey, FEMA Form 007-0-10; Correspondence and Process Survey, FEMA Form 007-0-11; E-Communications Survey, FEMA Form 007-0-12; Evacuations Survey, FEMA Form 007-0-13; Follow-Up Program Effectiveness and Recovery Survey, FEMA Form 007-0-14; Rapid Temporary Repair Survey, FEMA Form 007-0-15; Recovery Inventory Survey, FEMA Form 007-0-16; Return Home Survey, FEMA Form 007-0-17; and Site Recertification Survey, FEMA Form 007-0-18.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before October 28, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Federal Emergency Management Agency Individual Assistance Customer Satisfaction Surveys.

Type of Information Collection: Revision of a currently approved information collection.

OMB Number: 1660-0036.

Form Titles and Numbers: Caller Services Registration Intake Survey, FEMA Form 007-0-3 (currently 90-147); Caller Services Helpline Survey, FEMA Form 007-0-5 (currently 90-148); Program Effectiveness & Recovery Survey, FEMA Form 070-0-20 (currently 90-149); Internet On-Line Registration Survey, FEMA Form 070-0-2 (currently 90-150); Internet Applicant Inquiry/Update Phone Survey, FEMA Form 070-0-19 (currently 90-151); Casework Representative Survey, FEMA Form 007-0-6; Direct Housing Operations Survey, FEMA Form 007-0-4; Disability Access and Functional Needs Representative Survey, FEMA Form 007-0-8 (This form was named `Special Needs Representative Survey' in the 60-day Federal Register Notice at 75 FR 40847, July 14, 2010.); Disaster Recovery Center Survey, FEMA Form 007-0-7; Communication and Process Survey, FEMA Form 007-0-9; Contact Survey, FEMA Form 007-0-10; Correspondence and Process Survey, FEMA Form 007-0-11; E-Communications Survey, FEMA Form 007-0-12; Evacuations Survey, FEMA Form 007-0-13; Follow-Up Program Effectiveness and Recovery Survey, FEMA Form 007-0-14; Rapid Temporary Repair Survey, FEMA Form 007-0-15; Recovery Inventory Survey, FEMA Form 007-0-16; Return Home Survey, FEMA Form 007-0-17; and Site Recertification Survey, FEMA Form 007-0-18.

Abstract: Federal agencies are required to survey their customers to determine the kind and quality of services customers want and their level of satisfaction with existing services. FEMA Managers use the survey results to measure program performance against standards for performance and customer service; measure achievement of the Government Performance and Results Act (GPRA) and strategic planning objectives; and generally gauge and make improvements to disaster services that increase customer satisfaction and program effectiveness.

Affected Public: Individuals and Households.

Estimated Number of Respondents: 57,058.

Frequency of Response: On occasion.

Estimated Average Hour Burden per Respondent: .18 burden hours.

Estimated Total Annual Burden Hours: 10,186.

Estimated Cost: There are no annual capital start-up or annual operations and maintenance costs. The annual non-labor cost is $4,320.

Lesia M. Banks,
Director, Records Management Division, Mission Support Bureau, Federal Emergency Management Agency, Department of Homeland Security.

[FR Doc. 2010-24350 Filed 9-27-10; 8:45 am]

BILLING CODE 9111-23-P